DEPARTMENT OF TRANSPORTATION

Federal Aviation Administration

14 CFR Part 95

[Docket No. 31246: Amdt. No. 545]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: 0901 UTC, April 25, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that, good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on March 22, 2019.
Rick Domingo,
Executive Director, Flight Standards Service.

Adoption of the Amendment

Accordingly, pursuant to the authority delegated to me by the Administrator, part 95 of the Federal Aviation Regulations (14 CFR part 95) is amended as follows effective at 0901 UTC, April 25, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 545 Effective Date April 25, 2019]
From | To | MEA | MAA
§ 95.3000 Low Altitude RNAV Routes
§ 95.3273 RNAV Route T273 Is Amended To Read in Part
AYKID, AK FIX | TUVVO, AK FIX | 6400 | 17500

From | To | MEA
§ 95.6001 Victor Routes-U.S.
§ 95.6014 VOR Federal Airway V14 Is Amended To Read in Part
CHISUM, NM VORTAC | ONSOM, NM FIX |
*6000—MOCA | W BND | *7000
| E BND | *7500
LUBBOCK, TX VORTAC | CHILDRESS, TX VORTAC | 5100
§ 95.6044 VOR Federal Airway V44 Is Amended To Read in Part
SEA ISLE, NJ VORTAC | *KARRS, NJ FIX | **6000
*7000—MCA KARRS, NJ FIX, NE BND
**1800—MOCA
**2000—GNSS MEA
KARRS, NJ FIX | GAMBY, NJ FIX | *7000
*1300—MOCA
*2500—GNSS MEA
GAMBY, NJ FIX | DEER PARK, NY VOR/DME | *5000
*1600—MOCA
*2500—GNSS MEA
§ 95.6063 VOR Federal Airway V63 Is Amended To Read in Part
BURLINGTON, IA VOR/DME | MOLINE, IL VOR/DME | 3100
MOLINE, IL VOR/DME | DAVENPORT, IA VORTAC | 3100
§ 95.6068 VOR Federal Airway V68 Is Amended To Read in Part
CHISUM, NM VORTAC | HAGER, NM FIX
| W BND | 6000
| E BND | 6500
§ 95.6078 VOR Federal Airway V78 Is Amended To Read in Part
IRON MOUNTAIN, MI VOR/DME | VUKFI, MI FIX | 3300
VUKFI, MI FIX | ESCANABA, MI VOR/DME | *3000
*2300—MOCA
§ 95.6148 VOR Federal Airway V148 Is Amended To Read in Part
IRONWOOD, MI VOR/DME | HOUGHTON, MI VOR/DME | *3700
*3200—MOCA
§ 95.6175 VOR FEDERAL AIRWAY V175 Is Amended To Read in Part
MALDEN, MO VORTAC | BUNKS, MO FIX | *4000
*2700—MOCA
BUNKS, MO FIX | VICHY, MO VOR/DME | 3000
VICHY, MO VOR/DME | ZIPUR, MO FIX | *3000
*2500—MOCA
ZIPUR, MO FIX | HALLSVILLE, MO VORTAC | 2700
HALLSVILLE, MO VORTAC | MACON, MO VOR/DME | 3100
*LINDE, IA FIX | **MADUP, IA FIX | ***5500
*5500—MRA
**5500—MRA
***3000—MOCA
*MADUP, IA FIX **WELTE, IA FIX 5500
*5500—MRA
**3900—MRA
*WELTE, IA FIX | SIOUX CITY, IA VORTAC
| W BND | 3000
| E BND | 5500
*3900—MRA
REDWOOD FALLS, MN VOR/DME | ALEXANDRIA, MN VOR/DME | 3600
ALEXANDRIA, MN VOR/DME | PARK RAPIDS, MN VOR/DME | 3300
ROSEAU, MN VOR/DME | U.S. CANADIAN BORDER | *3600
*2600—MOCA
§ 95.6217 VOR Federal Airway V217 Is Amended To Read in Part
GREEN BAY, WI VORTAC | WISOM, WI FIX | 2700
WISOM, WI FIX | RHINELANDER, WI VOR/DME | 3600
§ 95.6276 VOR Federal Airway V276 Is Amended To Read in Part
CASVI, NJ FIX | *GAMBY, NJ FIX | **3000
*6000—MCA GAMBY, NJ FIX, SE BND
**1500—MOCA
GAMBY, NJ FIX | *PREPI, OA FIX | **6000
*8000—MRA
**2000—MOCA
**3000—GNSS MEA
§ 95.6376 VOR Federal Airway V376 Is Amended To Read in Part
RICHMOND, VA VOR/DME | *GRUBY, VA FIX | 2000
*3000—MCA GRUBY, VA FIX, N BND
GRUBY, VA FIX | IRONS, MD FIX | *4500
*1700—MOCA
§ 95.6430 VOR Federal Airway V430 Is Amended To Read in Part
IRONWOOD, MI VOR/DME | DINER, MI FIX | 3600
DINER, MI FIX | IRON MOUNTAIN, MI VOR/DME | *5000
*4000—GNSS MEA
IRON MOUNTAIN, MI VOR/DME | VUKFI, MI FIX | 3300
VUKFI, MI FIX | ESCANABA, MI VOR/DME | *3000
*2300—MOCA

Airway Segment: From | Airway Segment: To | Changeover Points: Distance | Changeover Points: From
§ 95.8003 VOR Federal Airway Changeover Point V376 Is Amended To Add Changeover Point
RICHMOND, VA VOR/DME | WASHINGTON, DC VOR/DME | 53 | RICHMOND

[FR Doc. 2019-06394 Filed 4-1-19; 8:45 am]

BILLING CODE 4910-13-P